DEPARTMENT OF THE INTERIOR

Fish and Wildlife Service

Canaan Valley National Wildlife Refuge

AGENCY: Fish and Wildlife Service, Interior.

ACTION: Notice of intent: preparation of a comprehensive conservation plan and environmental assessment

SUMMARY: The U.S. Fish and Wildlife Service (Service) announces the preparation of a Comprehensive Conservation Plan (CCP) and Environmental Assessment (EA) for Canaan Valley National Wildlife Refuge (NWR). We intend to gather the information necessary for preparing the CCP and EA pursuant to the National Wildlife Refuge System Administration Act of 1966, as amended by the National Wildlife Refuge System Improvement Act of 1997, and the National Environmental Policy Act of 1969. We are providing this notice to advise other Federal and State agencies and the public of our intention to conduct detailed planning on this refuge, and to obtain suggestions and information on the scope of issues to include in the environmental document.

We will involve the public through open houses, informational and technical meetings, and written comments. Special mailings, newspaper articles, and announcements will provide information about opportunities for public involvement in the planning process.

DATES: We are planning stakeholders meetings and a public scoping meeting for February—March 2007 in Davis, West Virginia. For the public meetings, we will announce their locations, dates, and times at least 2 weeks in advance in special mailings, newspaper notices, and through personal contacts.

ADDRESSES: Canaan Valley NWR, HC 70, Box 200, Davis, West Virginia 26260, at 304-866-3858 (telephone); 304-866-3852 (FAX); Web site http://www.fws.gov/canaanvalley or http://www.fws.gov/northeast/planning/.

FOR FURTHER INFORMATION CONTACT: Bill Zinni, Refuge Planner, U.S. Fish and Wildlife Service, 300 Westgate Center Drive, Hadley, Massachusetts 01035; 413-253-8522 (telephone); 413-253-8468 (FAX); northeastplanning@fws.gov (e-mail), noting Canaan Valley NWR in the subject title.

SUPPLEMENTARY INFORMATION: Under the National Wildlife Refuge System Administration Act of 1966, as amended by the National Wildlife Refuge System Improvement Act of 1997 (16 U.S.C. 668dd-668ee), we manage all lands in the National Wildlife Refuge System in accordance with an approved CCP. The plan guides management decisions and identifies refuge goals, long-range objectives, and strategies for achieving refuge purposes over a 15-year period.

Our planning process covers many elements, including wildlife and habitat management, visitor and recreational activities, cultural resource protection, and facilities and infrastructure. We will determine which existing or proposed uses of the refuge are appropriate and compatible. We will also conduct a wilderness review and a wild and scenic rivers evaluation to determine whether any areas on the refuge qualify for those Federal designations.

We encourage public input into the planning process. The comments we receive will help identify key issues and develop refuge goals and objectives for managing refuge resources and visitors. Additional opportunities for public participation will arise throughout the planning process, which we expect to complete in 2008. We have already begun collecting data to compile up-to-date information on refuge resources as a foundation for science-based resource decisions. We will prepare the EA in accordance with the Council on Environmental Quality procedures for implementing the National Environmental Policy Act of 1969 (42 U.S.C. 4321-4370d).

The 15,965-acre Canaan Valley NWR was established in 1994 to conserve and protect fish and wildlife resources, including endangered and threatened species, and the unique wetland and upland habitats of this high elevation valley. The refuge is located in Tucker County, West Virginia, and has an approved acquisition boundary of 24,000 acres. It includes the largest wetland complex in the State, and encompasses the headwaters of the Blackwater and Little Blackwater rivers. The refuge supports species of concern at both the Federal and State levels, including the Cheat Mountain salamander, West Virginia northern flying squirrel, Indiana bat, bald eagle, and others. Its dominant habitats include wet meadows, peatlands, shrub and forested swamps, beaver ponds and streams, northern hardwood forest, old fields and shrubland, and managed grassland.

Refuge visitors engage in wildlife observation and photography, environmental education, interpretation, hunting, and fishing. The refuge headquarters is located in the valley, just south of Davis, West Virginia.

Dated: December 8, 2006.
Richard O. Bennett,
Acting Regional Director, U.S. Fish and Wildlife Service, Hadley, Massachusetts.

[FR Doc. E7-792 Filed 1-19-07; 8:45 am]

BILLING CODE 4310-55-P